NATIONAL TRANSPORTATION SAFETY BOARD

Sunshine Act Meeting

TIME AND DATE: 9:30 a.m., Tuesday, August 7, 2018.

PLACE: NTSB Conference Center, 429 L'Enfant Plaza SW, Washington, DC 20594.

STATUS: The one item is open to the public.

MATTERS TO BE CONSIDERED:

57568 Highway Accident Report—Collision Between Freight Train and Charter Motorcoach at High-Profile Highway-Railroad Grade Crossing, Biloxi, Mississippi, March 7, 2017 (HWY17MH010)

NEWS MEDIA CONTACT: Telephone: (202) 314-6100.

The press and public may enter the NTSB Conference Center one hour prior to the meeting for set up and seating.

Individuals requesting specific accommodations should contact Rochelle McCallister at (202) 314-6305 or by email at Rochelle.McCallister@ntsb.gov by Wednesday, August 1, 2018.

The public may view the meeting via a live or archived webcast by accessing a link under “News & Events” on the NTSB home page at www.ntsb.gov.

Schedule updates, including weather-related cancellations, are also available at www.ntsb.gov.

FOR FURTHER INFORMATION CONTACT: Candi Bing at (202) 314-6403 or by email at bingc@ntsb.gov.

FOR MEDIA INFORMATION CONTACT: Peter Knudson at (202) 314-6100 or by email at peter.knudson@ntsb.gov.

Dated: July 13, 2018.
LaSean McCray,
Assistant Federal Register Liaison Officer.

[FR Doc. 2018-15314 Filed 7-13-18; 4:15 pm]

BILLING CODE 7533-01-P